OVERSEAS PRIVATE INVESTMENT CORPORATION

Sunshine Act; January 6, 2004, Board of Directors Meeting

Time and Date: Tuesday, January 6, 2004, 1:30 p.m. (Open Portion), 1:45 p.m. (Closed Portion).

Place: Offices of the Corporation, Twelfth Floor Board Room, 1100 New York Avenue, NW., Washington, DC.

Status: Meeting Open to the Public from 1:30 p.m. to 1:45 p.m. Closed portion will commence at 1:45 p.m. (approx.).

Matters to be Considered: 1. President's Report.

Further Matters to be Considered: (Closed to the Public 1:45 p.m.).

1. Finance Report—Iraq.

2. Finance Project—Iraq.

FOR FURTHER INFORMATION CONTACT: Information on the meeting may be obtained from Connie M. Downs at (202) 336-8438.

Dated: January 6, 2004.
Connie M. Downs,
Corporate Secretary, Overseas Private Investment Corporation.

[FR Doc. 04-501 Filed 1-6-04; 3:09 pm]

BILLING CODE 3210-01-M